DEPARTMENT OF COMMERCE

International Trade Administration

Environmental Technologies Trade Advisory Committee (ETTAC)

AGENCY: International Trade Administration, U.S. Department of Commerce.

ACTION: Cancellation Notice of September 16, 2005 Open Meeting.

Date: September 16, 2005.

Time: 8:30 a.m. to 4 p.m.

Place: Department of Commerce, 14th and Constitution NW., Washington DC 20230, Room 4830.

SUMMARY: The Environmental Technologies Trade Advisory Committee (ETTAC) has elected to cancel its previously scheduled September 16, 2005 plenary meeting. The meeting will be rescheduled for a later time to be determined in 2005.

The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC).

ETTAC was originally chartered in May of 1994. It was most recently rechartered until May 30, 2006.

For further information phone Joseph Ayoub, Office of Energy and Environmental Technologies Industries (OEEI), International Trade Administration, U.S. Department of Commerce at (202) 482-5225 or Joseph.Ayoub@mail.doc.gov.

Dated: August 26, 2005.
Carlos F. Montoulieu,
Director, Office of Energy and Environmental Industries.

[FR Doc. E5-4798 Filed 8-31-05; 8:45 am]

BILLING CODE 3510-DS-P